DEPARTMENT OF EDUCATION

Privacy Act of 1974; System of Records

AGENCY: Office of Management, Department of Education.

ACTION: Notice of a new system of records.

SUMMARY: In accordance with the Privacy Act of 1974, as amended (Act), the Department of Education (Department) publishes this notice of a new system of records for the collection and maintenance of information on the issuance of Identification Media for Department of Education employees, retirees, and contractors.

DATES: The Department seeks comment on the new system of records described in this notice, in accordance with the requirements of the Privacy Act. We must receive your comments on or before January 27, 2003.

The Department filed a report describing the system of records covered by this notice with the Chair of the Senate Committee on Governmental Affairs, the Chair of the House Committee on Government Reform, and the Administrator of the Office of Information and Regulatory Affairs, Office of Management and Budget (OMB) on December 20, 2002. This system of records will become effective at the later date of— (1) the expiration of the 40-day period for OMB review on January 29, 2003 or (2) January 27, 2003, unless the system of records needs to be changed as a result of public comment or OMB review.

ADDRESSES: Address all comments about this system of records to Director, Security Services, Office of Management, U.S. Department of Education, 400 Maryland Avenue, SW., room 2W229, FB6, Washington, DC 20202. If you prefer to send comments through the Internet, use the following address: comments@ed.gov.

You must include the term “Security Notice” in the subject line of the electronic comment.

During and after the comment period, you may inspect all comments about this notice in room 2W229, 400 Maryland Avenue, SW., Federal Building 6, Washington, DC, between the hours of 8 a.m. and 4:30 p.m., Eastern time, Monday through Friday of each week except Federal holidays.

Assistance to Individuals With Disabilities in Reviewing the Rulemaking Record

On request, we will supply an appropriate aid, such as a reader or printer magnifier, to an individual with a disability who needs assistance to review the comments or other documents in the public rulemaking record for this notice. If you want to schedule an appointment for this type of aid, please contact the person listed under FOR FURTHER INFORMATION CONTACT.

FOR FURTHER INFORMATION CONTACT: Jerry Shepherd. Telephone: (202) 260-7754. If you use a telecommunications device for the deaf (TDD), you may call the Federal Information Relay Service (FIRS) at 1-800-877-8339.

Individuals with disabilities may obtain this document in an alternative format (e.g., Braille, large print, audiotape, or computer diskette) on request to the contact person listed under FOR FURTHER INFORMATION CONTACT.

SUPPLEMENTARY INFORMATION:

Introduction

The Privacy Act (5 U.S.C. 552a(e)(4)) requires the Department to publish in the Federal Register this notice of a new system of records maintained by the Department. The Department's regulations implementing the Privacy Act are contained in the Code of Federal Regulations (CFR) in 34 CFR part 5b.

The Privacy Act applies to a record about an individual that contains individually identifiable information that is retrieved by a unique identifier associated with each individual, such as a name or social security number. The information about each individual is called a “record” and the system, whether manual or computer-based, is called a “system of records.” The Privacy Act requires each agency to publish notices of systems of records in the Federal Register and to prepare reports to the Office of Management and Budget (OMB) whenever the agency publishes a new or altered system of records.

Electronic Access to This Document

You may view this document, as well as other Department of Education documents published in the Federal Register in text or Adobe Portable Document Format (PDF) on the Internet at the following site: http://www.ed.gov/legislation/FedRegister.

To use PDF you must have Adobe Acrobat Reader, which is available free at this site. If you have questions about using PDF, call the U.S. Government Printing Office (GPO), toll-free, at 1-888-293-6498; or in the Washington DC, area at (202) 512-1530.

Note: The official version of this document is the document published in the Federal Register. Free Internet access to the official version of the Federal Register and the Code of Federal Regulations is available on GPO access at: http://www.access.gpo.gov/nara/index.html.

Dated: December 20, 2002.
William J. Leidinger,
Assistant Secretary for Management.

For the reasons discussed in the preamble, the Assistant Secretary for the Office of Management, U.S. Department of Education publishes a notice of a new system of records to read as follows:

18-05-16

System Name:

Identification Media Records.

Security Classification:

None.

System Location:

Security Services, Office of Management, U.S. Department of Education, 400 Maryland Avenue, SW., room 2C103, Washington, DC 20202.

Categories of Individuals Covered by the System:

Current employees, Department of Education (Department) retirees, and other persons doing business with the Department.

Categories of Records in the System:

This system contains records including an individual's name, home address, social security number, date of birth, contract expiration date, security clearance level and access, digital picture, office location, and telephone number.

Authority for Maintenance of the System:

Executive Order 12977 (October 19, 1995) establishing the Interagency Security Committee (ISC) to develop and oversee the implementation of security standards for federal facilities); Title 40 U.S.C. Sections 19, 285, & 490; 41 CFR 101-20.302, Department of Justice Vulnerability Assessment of Federal Facilities Report at table 2-8 (June 28, 1995); and the U.S. Department of Education, Departmental Directive OM: 4-112 (August 30, 2002).

Purpose(s):

Records in this system are maintained to provide the Department with information related to the issuance of identification media and access to restricted areas. This system will not be utilized as a means of tracking employee working hours.

Routine Uses of Records Maintained in the System, Including Categories of Users and the Purposes of Such Uses:

The Department of Education (Department) may disclose information contained in a record in this system of records under the routine uses listed in this system of records without the consent of the individual if the disclosure is compatible with the purposes for which the record was collected. These disclosures may be made on a case-by-case basis or, if the Department has complied with the computer matching requirements of the Act, under a computer matching agreement.

1. Disclosure for Use by Law Enforcement Agencies. The Department may disclose information contained in a record in this system of records to appropriate Federal, State, or local agencies responsible for enforcing, investigating, or prosecuting violations of administrative, civil, or criminal law or regulation if that information is relevant to any enforcement, regulatory, investigative, or prosecutorial responsibility within the receiving entity's jurisdiction.

2. Contract Disclosure. If the Department contracts with an entity for the purposes of performing any function that requires disclosure of records in this system to employees of the contractor, the Department may disclose the records to those employees. Before entering into such a contract, the Department shall require the contractor to maintain Privacy Act safeguards as required under 5 U.S.C. 552a(m) with respect to the records in the system.

3. Litigation and Alternative Dispute Resolution (ADR) Disclosure.

(a) Introduction. In the event that one of the following parties is involved in litigation or ADR, or has an interest in litigation or ADR, the Department may disclose certain records to the parties described in paragraphs b, c, and d of this routine use under the conditions specified in those paragraphs:

(i) The Department or any of its components.

(ii) Any Department employee in his or her official capacity.

(iii) Any employee of the Department in his or her official capacity where the Department of Justice (DOJ) is requested to provide or arrange for representation of the employee.

(iv) Any employee of the Department in his or her individual capacity where the Department has agreed to represent the employee.

(v) The United States where the Department determines that the litigation is likely to affect the Department or any of its components.

(b) Disclosure to the Department of Justice (DOJ). If the Department determines that disclosure of certain records to the DOJ or attorneys engaged by DOJ is relevant and necessary to litigation or ADR and is compatible with the purpose for which the records were collected, the Department may disclose those records as a routine use to DOJ.

(c) Administrative Disclosures. If the Department determines that disclosure of certain records to an adjudicative body before which the Department is authorized to appear, individual, or entity designated by the Department or otherwise empowered to resolve disputes is relevant and necessary to the administrative litigation or ADR and is compatible with the purpose for which the records were collected, the Department may disclose those records as a routine use to the adjudicative body, individual, or entity.

(d) Parties, Counsel, Representatives, and Witnesses. If the Department determines that disclosure of certain records to a party, counsel, representative, or witness is relevant and necessary to the litigation or ADR and is compatible with the purpose for which the records were collected, the Department may disclose those records as a routine use to the party, counsel, representative, or witness.

(4) Freedom of Information Act (FOIA) Advice Disclosure. To the Department of Justice and the Office of Management and Budget (OMB) if the Department seeks advice regarding whether records maintained in this system of records are required to be released under the FOIA and the Privacy Act of 1974.

(5) Congressional Member Disclosure. The Department may disclose records to a member of Congress from the record of an individual in response to an inquiry from the member made at the written request of that individual. The member's right to the information is no greater than the right of the individual who requested it.

Disclosure to Consumer Reporting Agencies:

Not applicable to this system notice.

Policies and Practices of Storing, Retrieving, Accessing, Retaining, and Disposing of Records in the System:

Storage:

Records are maintained in secured space either in locked lektrievers, in a room accessible by access control card, or in fire resistant safes with manipulation proof combination locks. Digital records are maintained in a secure computer database.

Retrievability:

Electronic and paper records are retrieved by the name of the individual.

Safeguards:

Paper records are maintained and secured in locked lektrievers or in fire resistant safes with manipulation proof combination locks. All records, including those records that are maintained on the computer database, are in limited access rooms with access control. All users are required to have an appropriate security clearance before they are allowed access, on a “need-to-know” basis, to the records. Computer databases are kept on a secured server. Authorized log-on codes and passwords prevent unauthorized users from gaining access to data and system resources. Users must have valid Security System accounts and passwords before accessing the application. Users are required to change their passwords periodically, and they are not allowed to repeat any old passwords. Any individual attempting to log on who fails is locked out of the system after three attempts. Access after that time requires intervention by the system manager.

Retention and Disposal:

Electronic identification media records are destroyed/deleted when no longer needed or after separation or transfer from the Department or expiration of contract relationship with the Department, whichever is earlier, in accordance with the National Archives and Records Administration's General Records Schedule (GRS) 20, item (3)(b), with the exception of Department retirees. Electronic identification media records for retirees from the Department are maintained for not more than five years or when no longer needed, whichever is earlier. All paper ID records are maintained in the personnel security and suitability files for not more than five years after separation or transfer from the Department or expiration of contract relationship with the Department in accordance with GRS 18, item 22. These paper records are disposed of by electronic erasure, disintegrator, or shredding.

System Manager(s) and Address:

Director, Security Services, U.S. Department of Education, Office of Management, 400 Maryland Avenue, SW., room 2W229, Washington, DC 20202.

Notification Procedure:

If you wish to inquire whether a record exists regarding you in this system, you should contact the system manager at the address listed above. You must provide your name, name of organization, and subject matter. Your request must meet the requirements of the Department's Privacy Act regulations at 34 CFR 5b.5, including proof of identity.

Record Access Procedure:

If you wish to request access to your records, you should contact the system manager at the address listed under System Manager(s) and Address. You must comply with the Department's Privacy Act regulations at 34 CFR 5b.5, including proof of identity.

Contesting Record Procedure:

If you wish to request an amendment to your records, you should contact the system manager at the address listed under System Manager(s) and Address. Your request must meet the requirements of the Department's Privacy Act regulations at 34 CFR 5b.7.

Record Source Categories:

Information contained in this system of records is obtained from individuals, their employers, and contractors of the Department.

System Exempted from Certain Provisions of the Act:

None.

[FR Doc. 02-32573 Filed 12-24-02; 8:45 am]

BILLING CODE 4000-01-P